DEPARTMENT OF DEFENSE

Office of the Secretary

Defense Business Board; Notice of Federal Advisory Committee Meeting; Correction

AGENCY: DoD.

ACTION: Meeting notice; correction.

SUMMARY: On December 31, 2012 (77 FR 77046), the Department of Defense published a notice announcing a meeting of the Defense Business Board. Under the provisions of the Federal Advisory Committee Act of 1972 (5 U.S.C., Appendix, as amended), the Government in the Sunshine Act of 1976 (5 U.S.C. 552b, as amended), and 41 CFR 102-3.150, the Department of Defense announces that the meeting time, meeting location, and agenda have changed. All other information in the December 31, 2012 notice remains the same.

DATES: The public meeting of the Defense Business Board will be held on Thursday, January 24, 2013. The meeting will now begin at 8:45 a.m. and end at 10:30 a.m.

ADDRESSES: Room 3D557 in the Pentagon, Washington, DC.

Purpose of the Meeting: At this meeting, the Board will deliberate the findings and draft recommendations from “Employing Our Veterans Part II: Review of Pilot Transition Goal Plans Success Program” and “Taking Advantage of Opportunities for Commercial Satellite Communications Services” Task Group Studies. The Board will also hear an update from the Task Group “Applying Best Business Practices for Corporate Performance Management to DoD.”

Meeting Agenda

8:45 a.m.-10:30 a.m. Task Group Outbriefs, Board Deliberations and Update

“Employing Our Veterans Part II: Review of Pilot Transition Goal Plans Success (GPS) Program”—Outbrief

“Taking Advantage of Opportunities for Commercial Satellite Communications Services”—Outbrief

“Applying Best Business Practices for Corporate Performance Management to DoD”—Update

Public's Accessibility to the Meeting: Pursuant to 5 U.S.C. 552b and 41 CFR 102-3.140 through 102-3.165, and the availability of space, this meeting is open to the public. Seating is limited and is on a first-come basis. All members of the public who wish to attend the public meeting must contact Ms. Debora Duffy at the number listed in this notice no later than noon on Wednesday, January 16 to register and make arrangements for a Pentagon escort, if necessary. Public attendees requiring escort should arrive at the Pentagon Metro Entrance with sufficient time to complete security screening no later than 8:15 a.m. on January 24. To complete security screening, please come prepared to present two forms of identification and one must be a pictured identification card.

FOR FURTHER INFORMATION CONTACT: The Board's Designated Federal Officer is Phyllis Ferguson, Defense Business Board, 1155 Defense Pentagon, Room 5B1088A, Washington, DC 20301-1155, Phyllis.Ferguson@osd.mil, 703-695-7563. For meeting information please contact Ms. Debora Duffy, Defense Business Board, 1155 Defense Pentagon, Room 5B1088A, Washington, DC 20301-1155, Debora.Duffy@osd.mil, (703) 697-2168.

Dated: January 15, 2013.
Aaron Siegel,
Alternate OSD Federal Register Liaison Officer, Department of Defense.

[FR Doc. 2013-01087 Filed 1-18-13; 8:45 am]

BILLING CODE 5001-06-P